DEPARTMENT OF DEFENSE

Office of the Secretary

[Transmittal No. 22-18]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 22-18 with attached Policy Justification.

Dated: May 8, 2024.
Aaron T. Siegel,
Alternate OSD Federal Register Liaison Officer, Department of Defense.

BILLING CODE 6001-FR-P

BILLING CODE 6001-FR-C

Transmittal No. 22-18

Notice of Proposed Issuance of Letter of Offer Pursuant to Section 36(b)(1) of the Arms Export Control Act, as amended

(i) Prospective Purchaser: Government of the United Kingdom

(ii) Total Estimated Value:

Major Defense Equipment * | $ 0 million
Other | $ 368.53 million
TOTAL | $ 368.53 million

(iii) Description and Quantity or Quantities of Articles or Services under Consideration for Purchase:

Major Defense Equipment (MDE):

None

Non-MDE:

Follow-on support for all three segments of the United Kingdom's (UK) Tomahawk Weapon System (TWS). This includes the All Up Round (AUR), Tactical Tomahawk Weapon Control System (TTWCS) and Theater Mission Planning Center (TMPC). The support includes recertification of the UK's missiles; unscheduled missile maintenance; spares; procurement; training; in-service support; software; hardware; communication equipment; operational flight test; engineering and technical expertise to maintain the TWS capability; and other related elements of logistical and program support.

(iv) Military Department: Navy (UK-P-FCS)

(v) Prior Related Cases, if any: UK-P-AGS, UK-P-AHA, UK-P-AHE, UK-P-AHJ, UK-P-AHS, UK-P-FAY, UK-P-FBX, UK-P-GEK, UK-P-GWY, UK-P-GXQ, UK-P-GYU, UK-P-LIS

(vi) Sales Commission, Fee, etc., Paid, Offered, or Agreed to be Paid: None

(vii) Sensitivity of Technology Contained in the Defense Article or Defense Services Proposed to be Sold: None

(viii) Date Report Delivered to Congress: March 29, 2022

* As defined in Section 47(6) of the Arms Export Control Act.

POLICY JUSTIFICATION

United Kingdom—Tomahawk Weapon System (TWS) Follow-On Support

The Government of the United Kingdom (UK) has requested to buy follow-on support for all three segments of the United Kingdom's Tomahawk Weapon System (TWS). This includes the All Up Round (AUR), Tactical Tomahawk Weapon Control System (TTWCS) and Theater Mission Planning Center (TMPC). The support includes recertification of the UK's missiles; unscheduled missile maintenance; spares; procurement; training; in-service support; software; hardware; communication equipment; operational flight test; engineering and technical expertise to maintain the TWS capability; and other related elements of logistical and program support. The total estimated program cost is $368.53 million.

This proposed sale will support the foreign policy goals and national security objectives of the United States by improving the security of a NATO Ally that is a force for political stability and economic progress in Europe.

The proposed sale will sustain the operating capability of the United Kingdom, ensuring maritime forces' interoperability with United States and other allied forces as well as their ability to contribute to missions of mutual interest by delivering follow-on support and sustainment. By deploying the Tomahawk Weapon system, the United Kingdom contributes to global readiness and enhances the capability for the U.S. forces operating globally alongside them. The United Kingdom already operates this capability, and will have no difficulty absorbing this equipment into its armed forces.

The proposed sale of this equipment and support will not alter the basic military balance in the region.

The prime contractor will be Raytheon Missiles and Defense, Tucson, AZ. There are no known offset agreements proposed in connection with this potential sale.

Implementation of this proposed sale will require multiple trips by U.S. Government representatives and the assignment of contractor representatives to United Kingdom on an intermittent basis over the life of the case to support delivery and integration of items and to provide supply support management, inventory control and equipment familiarization. There will be one (1) U.S. Government representative and three (3) U.S. contractor representatives in the UK full-time for the duration of the case.

There will be no adverse impact on U.S. defense readiness as a result of this proposed sale.

[FR Doc. 2024-10469 Filed 5-13-24; 8:45 am]

BILLING CODE 6001-FR-P